DEPARTMENT OF AGRICULTURE

Forest Service

Stanislaus National Forest, CA; Notice of Intent To Prepare an Environmental Impact Statement for Candy Rock Quarry Management

AGENCY: Forest Service, USDA.

ACTION: Notice of intent to prepare an environmental impact statement.

SUMMARY: The Stanislaus National Forest proposes to set permanent limitations on recreational target shooting at Candy Rock Quarry near Hathaway Pines, California. The purpose of this proposal is to determine if recreational target shooting is an appropriate activity at Candy Rock Quarry in the context of safety, public health, and applicable law, regulation and policy. If target shooting is found to be appropriate, determine the conditions under which shooting may continue.

DATES: Comments on the proposed action should be submitted within 45 days of the date of publication of this Notice of Intent. The Forest Service will hold a public meeting in March 2012. Completion of the draft environmental impact statement is expected in Fall 2012 and the final environmental impact statement is expected in Spring 2013.

ADDRESSES: Send written comments to: Stanislaus National Forest; Attn: Candy Rock; 19777 Greenley Road; Sonora, CA 95370; (209) 532-3671. Comments may be submitted by Fax [(209) 533-1890]; or, by hand-delivery to the address shown above, during normal business hours (Monday-Friday 8 a.m. to 4:30 p.m.). Oral comments must be submitted via telephone by calling (209) 532-3671 ext. 350.

Electronic comments, in acceptable [plain text (.txt), portable document format (.pdf), rich text (.rtf) or Word (.doc)] formats, may be submitted to: comments-pacificsouthwest-stanislaus@fs.fed.us with Subject: Candy Rock.

FOR FURTHER INFORMATION CONTACT: For additional information regarding this proposal, contact Sara Friberg, Stanislaus National Forest, 19777 Greenley Road; Sonora, CA 95370; phone: (209) 532-3671 ext. 475; or, email: sfriberg@fs.fed.us.

SUPPLEMENTARY INFORMATION:

General Background

Candy Rock Quarry is located on the Stanislaus National Forest, Calaveras Ranger District in Calaveras County near Hathaway Pines, California (Section 20, T4N R15E). Forest Roads 4N73Y and 4N80Y provide access to the quarry from Highway 4.

The quarry is in a wildland urban intermix area, approximately one-third of a mile from the nearest private residential properties. It is presently used as a storage site for tunnel muck (loose rock ore fragmented during tunnel creation) deposited between 1986 and 1988 during the construction of the North Fork Stanislaus River Hydroelectric Project. The tunnel muck is used for road surfacing. Prior to being used as a tunnel muck storage site, the quarry produced an ornamental rhyolitic rock called “candy rock.” The quarry is one of the locations on the District that recreationists actively use for target shooting.

Recreational target shooting is considered a dispersed recreation activity on the Stanislaus National Forest. With no designated shooting ranges on the Forest, shooting is allowed as long it is conducted in a safe manner in compliance with Federal regulations at 36 CFR 261.10(d). Target shooting has taken place at the Candy Rock Quarry site since the early 1960s, predating the placement of the tunnel muck in the late 1980s, and the development of most of the nearby residential lots. Sheriff's Department and Forest Service law enforcement records indicate, over the past three years, no documented incidents involving vandalism, vegetation fires or reports of property damage resulting from the use of firearms at the quarry site. Records show one incident of a self-inflicted gunshot wound, and several noise complaints. The Calaveras County Sheriff's office reported that the number of calls to the area increased substantially since 2009. These calls are primarily complaints about shooting from the roadway or from the quarry, expressing safety concerns.

The Calaveras Ranger District received several written and verbal complaints about shooting activity at and near the quarry. The complaints are about persistent shooting noise during daylight hours and into darkness, and concern for personal safety on both public lands and nearby private lands. In addition, the District received comments from other individuals expressing a desire to continue to enjoy the use of the site for responsible target shooting. After a public meeting on October 19, 2009 including the Forest Service, the Calaveras County Supervisor and Sheriff's offices, and concerned citizens, the Forest implemented several mitigation measures to increase safety in the area and reduce noise.

Since implementation of these mitigations, residents claim that the shooting activity is louder and more persistent than in previous years. As a result, nearby residents insist that the quarry be closed to target shooting due to the safety hazard and noise disturbance. Conversely, individuals who actively shoot at Candy Rock Quarry express their desire to continue using the quarry site for target shooting. As a result, the Calaveras Ranger District sought advice from National Rifle Association (NRA) Range Technical Team Advisors regarding safety concerns at the quarry site. The NRA Range Technical Team found that if target shooters follow accepted safety rules and shoot into the backstop, Candy Rock Quarry should be a safe area for recreational target shooting.

The Center for Collaborative Policy (CCP), California State University in Sacramento, California, conducted an assessment of stakeholders concerns in order to suggest options for resolving the conflict associated with recreational shooting at the quarry. The CCP interviewed members of stakeholders groups (Community for Respectful Firearms Use; and, Concerned Citizens for Safe Shooting), noting a divided community of individuals, with little progress towards resolving the conflict. The CCP report concluded that feelings of community alienation, emotional distress and declining health resulted from the shooting activity at the quarry.

Purpose and Need for Action

The Stanislaus National Forest Plan Direction (USDA 2010) provides goals, objectives, standards and guidelines, and management area direction that apply to the Candy Rock Quarry. The Quarry is situated within the Scenic Corridor management area, due to its proximity to State Highway 4 (USDA 2010, p. 156).

On April 29, 2011, the Forest Service issued Forest Order STF-2011-04 (Candy Rock Quarry Shooting Restriction Area) due to concerns from the public about health and safety. This Forest Order limits hours for target shooting at the quarry from 10 a.m. to 6 p.m. Monday-Friday, and 10 a.m. to 3 p.m. on Saturday (the quarry is closed to shooting on Sundays). The Forest Order also prohibits the use of explosives within the quarry.

That Forest Order expires on April 28, 2013 so there is a need to provide for the long-term management of the Candy Rock Quarry, including changes to the National Forest Transportation System for Forest Road 4N73Y. As such, the purpose of this initiative is to determine if recreational target shooting is an appropriate activity at Candy Rock Quarry in the context of safety, public health, and applicable law, regulation and policy. If target shooting is found to be appropriate, determine the conditions under which shooting may continue.

Proposed Action

In response to the purpose and need, the Forest Service proposes to:

1. Issue a permanent Forest Order with the following conditions:

a. Set hours for target shooting from 10 a.m. to 6 p.m. Monday-Friday; 10 a.m. to 3 p.m. on Saturday; and, closed on Sundays.

b. Prohibit the use of explosives.

c. Prohibit the use of firearms larger than 0.50 caliber.

d. Prohibit trap and skeet shooting.

2. Modify the existing National Forest Transportation System (NFTS):

a. Change vehicle class on Forest Road 4N73Y from All Vehicles to Highway Legal Only.

b. Change season of use on Forest Road 4N73Y from April 15 to December 15 to year round.

3. Install site design elements:

a. Post signs displaying hours of use and site prohibitions.

Possible Alternatives

In addition to the Proposed Action, the EIS will evaluate the required No Action alternative and may consider other alternatives such as those listed below.

1. No Action: this required alternative would allow Forest Order STF-2011-04 to expire on April 28, 2013 with no new shooting restrictions, as long as shooting occurs in a safe manner in compliance with Federal regulations at 36 CFR 261.10(d). On Forest Road 4N73Y, the vehicle class would remain as All Vehicles and the season of use would remain as April 15 to December 15.

2. No Shooting: this alternative, based on comments submitted by the public prior to scoping, would close Candy Rock Quarry to all shooting. It would include a permanent Forest Order prohibiting shooting, physical closure of the site with a gate or rocks, signs displaying the closure, and law enforcement activity ensuring compliance. On Forest Road 4N73Y, the vehicle class would change from All Vehicles to Administrative Use Only (closed to public motorized use) and the season of use would change from April 15 to December 15 to no season of use (closed to public motorized use).

3. Continue Current Management: this alternative would continue current management by replacing Forest Order STF-2011-04 with a permanent order making no changes to on-site prohibitions. On Forest Road 4N73Y, the vehicle class would remain as All Vehicles and the season of use would remain as April 15 to December 15.

Responsible Official

Susan Skalski, Forest Supervisor, Stanislaus National Forest, Supervisor's Office, 19777 Greenley Road, Sonora, CA 95370.

Nature of Decision To Be Made

The responsible official will decide whether to adopt and implement the proposed action, and alternative to the proposed action, or take no action with respect to the management of the Candy Rock Quarry.

Scoping Process

Public participation is important at numerous points during the analysis. The Forest Service seeks information, comments, and assistance from the federal, state, and local agencies and individuals or organizations that may be interested in or affected by the proposed action.

Scoping identifies issues which are a point of discussion, dispute, or debate with the Proposed Action. An issue is an effect on a physical, biological, social, or economic resource. An issue is not an activity; instead, the predicted effects of the activity create the issue. Issues are then separated into the two groups shown below. The Council on Environmental Quality (CEQ) NEPA regulations require this delineation in Sec. 1501.7, “* * * identify and eliminate from detailed study the issues which are not significant or which have been covered by prior environmental review (Sec. 1506.3) * * *”

1. Significant Issues are used to formulate alternatives, prescribe mitigation measures, or analyze environmental effects. Issues are significant because of the extent of their geographic distribution, the duration of their effects, or the intensity of interest or resource conflicts.

2. Non-Significant Issues are: (1) Outside of the scope of the proposed action; (2) already determined through law, regulation, Forest Plan, or other higher level decision; (3) irrelevant to the decision to be made; (4) conjectural and not supported by scientific fact; (5) a comment, opinion, or position statement; or, (6) a question for clarification or information.

Although non-significant issues are not used to formulate alternatives or prescribe mitigation measures, the EIS will disclose all significant environmental effects including any related to non-significant issues.

Comment Requested

This notice of intent initiates the scoping process which guides the development of the environmental impact statement. Comments on the proposed action should be submitted within 45 days of the date of publication of this Notice of Intent. The Forest Service will hold a public meeting in March 2012.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: February 22, 2012.
Susan Skalski,
Forest Supervisor.

[FR Doc. 2012-4608 Filed 2-27-12; 8:45 am]

BILLING CODE 3410-11-P